DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 11, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Itasca County, Minnesota and Incorporated Areas
Docket No.: FEMA-B-2364
City of Bigfork | City Hall, 200 Main Avenue, Bigfork, MN 56628.
City of Bovey | City Hall, 402 2nd Street, Bovey, MN 55709.
City of Cohasset | City Hall, 305 Northwest 1st Avenue, Cohasset, MN 55721.
City of Coleraine | City Hall, 302 Roosevelt Street, Coleraine, MN 55722.
City of Deer River | City Hall, 60 2nd Street SE, Deer River, MN 56636.
City of Grand Rapids | City Hall, 420 North Pokegama Avenue, Grand Rapids, MN 55744.
City of Keewatin | City Hall, 127 West 3rd Avenue, Keewatin, MN 55753.
City of LaPrairie | LaPrairie City Hall, 15 Park Drive, Grand Rapids, MN 55744.
City of Taconite | Community Building, 26 Haynes Street, Taconite, MN 55786.
City of Warba | City Hall, 130 South 2nd Avenue, Warba, MN 55793.
City of Zemple | Zemple City Hall, 606 County Road 139, Deer River, MN 56636.
Leech Lake Band of Ojibwe | Leech Lake Band of Ojibwe Tribal Office, 190 Sailstar Drive Northwest, Cass Lake, MN 56633.
Unincorporated Areas of Itasca County | Itasca County Courthouse, Department of Environmental Services, 123 Northeast 4th Street, Grand Rapids MN 55744.
Carroll County, Mississippi and Incorporated Areas
Docket No.: FEMA-B-2247
Unincorporated Areas of Carroll County | Carroll County Courthouse, 600 Lexington Street, Carrollton, Mississippi 38917.
Montgomery County, Mississippi and Incorporated Areas
Docket No.: FEMA-B-2247
Unincorporated Areas of Montgomery County | Montgomery County Courthouse, 614 Summit Street, Winona, Mississippi 38967.
McLean County, North Dakota and Incorporated Areas
Docket No.: FEMA-B-2367
City of Washburn | McLean County Courthouse, 712 5th Avenue, Washburn, ND 58577.
Unincorporated Area of McLean County | McLean County Courthouse, 712 5th Avenue, Washburn, ND 58577.
Mercer County, North Dakota and Incorporated Areas
Docket No.: FEMA-B-2367
City of Stanton | Mercer County Courthouse, 1021 Arthur Street, Stanton, ND 58571.
Unincorporated Area of Mercer County | Mercer County Courthouse, 1021 Arthur Street, Stanton, ND 58571.
Oliver County, North Dakota and Incorporated Areas
Docket No.: FEMA-B-2367
Unincorporated Area of Oliver County | Oliver County Courthouse, 115 West Main Street, Center, ND 58530.
McCook County, South Dakota and Incorporated Areas
Docket No.: FEMA-B-2380
City of Bridgewater | Main Street Plaza, 232 North Main Avenue, Bridgewater, SD 57319.
City of Montrose | City Hall, 100 West Main Street, Montrose, SD 57048.
City of Salem | City Hall, 400 North Main Street, Salem, SD 57058.
Town of Spencer | City Hall, 306 Main Street, Spencer, SD 57374.
Unincorporated Areas of McCook County | McCook County Auditor's Office, 130 West Essex Avenue, Salem, SD 57058.

[FR Doc. 2024-24772 Filed 10-23-24; 8:45 am]

BILLING CODE 9110-12-P